DEPARTMENT OF LABOR

Employment and Training Administration

[TA-W-39,826]

Henry Manufacturing, Los Angeles, CA; Notice of Termination of Investigation

Pursuant to Section 221 of the Trade Act of 1974, an investigation was initiated on August 13, 2001, in response to a petition filed on behalf of workers at Henry Manufacturing, Los Angeles, California.

This case is being terminated on the basis that the U.S. Department of Labor was unable to locate an official of the company to obtain the information necessary to render a decision.

Consequently, it would serve no purpose to continue the investigation and the investigation has been terminated.

Signed in Washington, DC, this 16th day of January, 2002.
Linda G. Poole,
Certifying Officer, Division of Trade Adjustment Assistance.

[FR Doc. 02-2325 Filed 1-30-02; 8:45 am]

BILLING CODE 4510-30-M